DEPARTMENT OF VETERANS AFFAIRS

[OMB Control No. 2900—New (VA Form (10-0530a-b)]

Agency Information Collection: Emergency Submission for OMB Review (VISN 23 PACT Demonstration Lab: Patient Care Preferences Surveys); Comment Request

AGENCY: Veterans Health Administration, Department of Veterans Affairs.

ACTION: Notice.

SUMMARY: In compliance with the Paperwork Reduction Act (PRA) of 1995 (44 U.S.C. 3501-3521), this notice announces that the Department of Veterans Affairs (VA), will submit to the Office of Management and Budget (OMB) the following emergency proposal for the collection of information under the provisions of the Paperwork Reduction Act (44 U.S.C. 3507(j)(1)). An emergency clearance is being requested for information needed to improve health care for veterans.

DATES: Comments must be submitted on or before August 31, 2012.

ADDRESSES: Send comments and recommendations concerning any aspect of the information collection to VA's OMB Desk Officer, OMB Human Resources and Housing Branch, New Executive Office Building, Room 10235, Washington, DC 20503 (202) 395-7316 or Fax (202) 395-6974. Please refer to “2900—New (VA Form 10-0530a-b).

FOR FURTHER INFORMATION CONTACT: Denise McLamb, Enterprise Records Service (005R1B), Department of Veterans Affairs, 810 Vermont Avenue NW., Washington, DC 20420, (202) 632-7479, FAX (202) 632-7583 or email: denise.mclamb@va.gov. Please refer to “OMB Control No. 2900—New VA Form (10-0530a-b).

SUPPLEMENTARY INFORMATION:

Title: VISN 23 PACT Demonstration Lab: Patient Care Preferences Survey.

a. Multidimensional Health Locus of Control, VA Form 10-0530.

b. General Adherence Scale, VA Form 10-0530a.

c. Demographic Data: Patient Background Information, VA Form 10-0530b.

OMB Control Number: 2900-New.

Type of Review: New data collection.

Abstract: This patient self-assessment of health study and patient satisfaction questionnaire seek to collect individual, primary data from patients concerning attitudes toward healthcare. The VHA PACT Demo Lab is a new grant-funded project. No existing information can be used to adequately evaluate the VHA PACT, evaluate patient experiences with PACT over time, and inform improvements to the redesign and its newly implemented innovations.

Affected Public: Individuals or households.

Estimated Annual Burden:

a. VA Form 10-0530—25 hours.

b. VA Form 10-0530a—17 hours.

c. VA Form 10-0530b—17 hours.

Estimated Average Burden Per Respondent:

a. VA Form 10-0530—3 minutes.

b. VA Form 10-0530a—2 minutes.

c. VA Form 10-0530b—2 minutes.

Frequency of Response: One-time.

Estimated Number of Respondents:

a. VA Form 10-0530—500.

b. VA Form 10-0530a—500.

c. VA Form 10-0530b—500.

Dated: August 16, 2012.
By direction of the Secretary.
Denise McLamb,
Program Analyst Director, Enterprise Records Service.

[FR Doc. 2012-20458 Filed 8-20-12; 8:45 am]

BILLING CODE 8320-01-P